DEPARTMENT OF COMMERCE

International Trade Administration

Critical Infrastructure Protection and Cyber Security Trade Mission to Saudi Arabia and Kuwait, September 28-October 1, 2013

AGENCY: International Trade Administration, Department of Commerce.

ACTION: Notice.

Mission Description

The United States Department of Commerce, International Trade Administration, U.S. & Foreign Commercial Service, is coordinating and sponsoring an executive-led Critical Infrastructure Protection and Cyber Security mission to Riyadh, Saudi Arabia and Kuwait City, Kuwait, from September 28-October 1, 2013. The mission will focus on the cyber security, critical infrastructure protection, and emergency management, ports of entry, aviation, and border security sectors. This mission is designed for representatives from U.S. safety and security businesses and trade associations that have past experience exporting to the Middle East region. This mission will seek to connect U.S. companies in the safety and security industries, including Information Communications Technology (ICT) companies active in cyber security, with appropriate government (state and local) and private entities in Saudi Arabia and Kuwait. The mission will include one-on-one appointments with potential partners, embassy briefings, technical site visits and networking events in Riyadh and and Kuwait City.

Commercial Setting

Saudi Arabia

The Kingdom of Saudi Arabia has prioritized cyber defense and infrastructure protection, and is investing heavily in these sectors. Saudi Arabia is interested in learning about the U.S. experience in defending vital economic infrastructure from cyber attacks in an effort to strengthen its capabilities concerning computer systems and other potential cyber attack targets. In 2008, the U.S. and Saudi Arabia signed a Technical Cooperation Agreement to facilitate the transfer of technical knowledge, advice, skills and resources from the United States to the Kingdom of Saudi Arabia in the areas of critical infrastructure protection and public security, including border protection, civil defense capabilities, and coast guard and maritime capabilities. In 2012, Saudi infrastructure spending included $9.4 billion for transport projects such as the expansion of a number of the country's airports. Specifically, opportunities exist for companies providing surveillance equipment, electronic gates, thermal imaging, advanced communication systems, electronic detection equipment, cyber intrusion detection and prevention, perimeter control, biometrics, etc.

Kuwait

The Government of Kuwait has a stated plan to invest considerable sums in safety and security equipment through 2020. Kuwait defense and security forces will be looking to purchase surveillance equipment, perimeter security and control systems, security check point equipment (fences, crash barriers, cameras, access points), and contraband detection systems, including scanning systems, and consulting services in security planning. Additionally, the Government of Kuwait is seeking to increase its capabilities in cyber security.

In particular, several projects currently under consideration by the Government of Kuwait, particularly under the Ministry of Interior, include (additional) camera surveillance systems to be installed in and near most transportation infrastructure points, geospatial intelligence connectivity, maritime netting, and sensors to minimize security threats to vessels, facilities security of oil refineries and power plants (stations), production facilities and loading platforms, including ports, and the hardware and software infrastructure needed to support a fully integrated C4ISR (C41 Surveillance and Reconnaissance) Systems.

Kuwait plans to spend a total of US$ 28.2 billion on projects in the transportation sector, including aviation, airport, rail, roads, building and terminals. The expansion of Kuwait International Airport is a significant infrastructure development. The planned $6 billion project includes a new terminal building and expanding the two existing terminals. Moreover, in 2013, Kuwait is expected to award a tender to build its third runway. Kuwait is aiming to double the airport capacity to 20 million passengers by 2025.

Other major projects are the construction of the country's fourth refinery and the expansion of the existing refineries valued at approximately $30 billion.

Mission Goals

The goals of the Critical Infrastructure Protection and Cyber Security mission to Saudi Arabia and Kuwait are:

1. To gain market exposure and introduce participants to potential partners and key decision makers, taking advantage of the United States' strong ties and positive reputation in Saudi Arabia and Kuwait.

2. To develop market knowledge and relationships that can enhance potential partnerships with local, safety and security firms, and government agencies (state and local).

Mission Scenario

Participation in the mission will include the following:

• Pre-travel briefings/webinars

• Embassy/consulate and industry briefings

• Networking reception at the Ambassador's Residences in Riyadh and Kuwait City; and

• Pre-scheduled one-on-one meetings with appropriate individuals at the local trade associations, companies, and government entities. Transport to meetings in Riyadh and Kuwait City.

The precise schedule will depend on the specific goals and objectives of the mission participants.

Proposed Timetable—September 28-October 1, 2013
Saturday, September 28, 2013 | Arrive Riyadh.
Evening | Individual transfer to the hotel.
Sunday, September 29, 2013
9:00 a.m. | Embassy briefing.
| Lunch.
12:00-1:00 p.m. | Government Meetings.
1:30-17:30 p.m. | Networking.
17:30 p.m. | Reception at the Ambassador's Residence.
20:00-21:00 p.m. | Return to hotel.
Monday, September 30, 2013
8:30 a.m.-12:00 p.m. | Individual meetings with Saudi associations and prospective agents and other partners.
Afternoon | One on one meetings.
16:05 p.m. | Depart for Kuwait City via Saudi Airways.
17:20 p.m. | Arrive Kuwait City.
19:30 p.m.-21:00 p.m. | Welcome Reception at the Ambassador's Residence.
Tuesday, Oct. 1, 2013 | Kuwait.
8:00-9:00 a.m. | Embassy Country Team briefing.
9:30 a.m.-12:00 p.m. | Government of Kuwait meetings.
Afternoon | Lunch.
| Site visits.
| Roundtable discussions with local business leaders.
| One on One meetings with local business people.
| Trade Mission concludes, on own.

Participation Requirements

All parties interested in participating in the Critical Infrastructure Protection and Cyber Security mission to Saudi Arabia and Kuwait must complete and submit an application for consideration by the U.S. Department of Commerce. All applicants will be evaluated on their ability to meet certain conditions and best satisfy the selection criteria as outlined below. The mission will include a minimum of 15 and maximum of 20 qualified U.S. firms and trade associations.

Fees and Expenses

After an applicant has been selected to participate on the mission, a payment to the U.S. Department of Commerce in the form of a participation fee is required. The participation fee for one representative is $3,911 for a small or medium-sized enterprise and $4,288 for a large firm.¹ The fee for each additional representative is $1,000. Expenses for lodging, some meals, incidentals, and all travel (except for transportation to and from airports in-country, previously noted) will be the responsibility of each mission participant.

¹ An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (See http://www.export.gov/newsletter/march2008/initiatives.html for additional information).

Conditions for Participation

Applicants must submit a completed and signed mission application and supplemental application materials, including adequate information on the company's (or in the case of a trade association, represented companies') products and/or services, primary market objectives, and goals for participation. If the Department of Commerce receives an incomplete application, the Department may either: Reject the application, request additional information/clarification, or take the lack of information into account when evaluating the applications.

Each applicant must also certify that the products and services it seeks to export through the mission are either produced in the United States, or, if not, are marketed under the name of a U.S. firm and have at least fifty-one percent U.S. content. In the case of a trade association, the applicant must certify that for each company to be represented by the association, the products and/or services the represented company seeks to export are either produced in the United States or, if not, marketed under the name of a U.S. firm and have at least fifty-one percent U.S. content.

Selection Criteria for Participation

Selection will be based on the following criteria:

• Suitability of a company's (or in the case of a trade association, represented companies') products or services to the mission's goals

• Applicant's (or in the case of a trade association, represented companies') potential for business in Saudi Arabia and Kuwait, including likelihood of exports resulting from the trade mission

• Applicant's (or in the case of a trade association, represented companies') demonstrated export experience in the Middle East region (including Saudi Arabia and Kuwait)

• Consistency of the applicant's (or in the case of a trade association, represented companies') goals and objectives with the stated scope of the trade mission (i.e., the sectors indicated in the mission description)

Referrals from political organizations and any documents containing references to partisan political activities (including political contributions) will be removed from an applicant's submission and not considered during the selection process.

Selection Timeline

Mission recruitment will be conducted in an open and public manner, including publication in the Federal Register, posting on the Commerce Department trade mission calendar (http://export.gov/trademissions) and other Internet Web sites, press releases to general and trade media, direct mail, notices by industry trade associations and other multiplier groups, and publicity at industry meetings, symposia, conferences, and trade shows. The deadline to apply is June 30, 2013; however, the U.S. Department of Commerce will begin reviewing applications and making selection decisions on a rolling basis beginning on February 11, 2013 until the maximum of 20 participants is selected. Applications received after June 30, 2013 will be considered only if space and scheduling constraints permit.

Contacts

Jessica Arnold, International Trade Specialist, U.S. Department of Commerce I Commercial Service, 1400 Pennsylvania Ave. NW., Washington, DC 20004, Tel: 202-482-2026. saudimission2013@trade.gov|http://trade.gov.

Michael Marangell, International Trade Specialist, U.S. Department of Commerce I Commercial Service, 200 West Adams, Suite 2450, Chicago, IL 60606, Tel: 312-353-5097, saudimission2013@trade.gov|http://export.gov/illinois.

Amer Kayani, Senior Commercial Officer, Riyadh, Saudi Arabia, U.S. Department of Commerce I Commercial Service, Amer.kayani@trade.gov.

Dao M. Le, Senior Commercial Officer, Kuwait City, Kuwait, U.S. Department of Commerce I Commercial Service, Dao.Le@trade.gov.

Elnora Moye,
Trade Program Assistant.

[FR Doc. 2013-02052 Filed 1-30-13; 8:45 am]

BILLING CODE 3510-FP-P